SMALL BUSINESS ADMINISTRATION

Data Collection Available for Public Comments and Recommendations

ACTION: Notice and request for comments.

SUMMARY: In accordance with the Paperwork Reduction Act of 1995, this notice announces the Small Business Administration's intentions to request approval on a new and/or currently approved information collection.

DATES: Submit comments on or before August 22, 2011.

ADDRESSES: Send all comments regarding whether this information collection is necessary for the proper performance of the function of the agency, whether the burden estimates are accurate, and if there are ways to minimize the estimated burden and enhance the quality of the collection, to Veronica Dymond, Public Affairs Specialist, Office of Communications, Small Business Administration, 409 3rd Street, 7th Floor, Washington, DC 20416.

FOR FURTHER INFORMATION CONTACT: Veronica Dymond, Office of Communications, 202-205-6746, veronica.dymond@sba.gov Curtis B. Rich, Management Analyst, 202-205-7030 curtis.rich@sba.gov.

SUPPLEMENTARY INFORMATION: This form is used to collect information from candidates for advisory councils. This form is needed to determine eligibility, potential conflict-of-interest and mailing data.

Title: “U.S. Small Business Advisory Committee Membership Information”.

Description of Respondents: To collect information for Candidates for Advisory Council.

Form Number: 898.

Annual Responses: 100.

Annual Burden: 100.

ADDRESSES: Send all comments regarding whether this information collection is necessary for the proper performance of the function of the agency, whether the burden estimates are accurate, and if there are ways to minimize the estimated burden and enhance the quality of the collection, to Cynthia Pitts, Director, Disaster Administrative Services, Small Business Administration, 409 3rd Street, 6th Floor, Washington, DC 20416.

FOR FURTHER INFORMATION CONTACT: Cynthia Pitts, Disaster Administrative Services, 202-205-7570, Cynthia.pitts@sba.gov, Curtis B. Rich, Management Analyst, 202-205-7030 curtis.rich@sba.gov.

SUPPLEMENTARY INFORMATION: The objective of the debt collection activities is to obtain immediate repayment or arrive at a satisfactory arrangement for future repayment of debts owed to the Government. SBA uses the financial information provided by the debtor on Form 770 in making a determination regarding the compromise of such debts and other liquidation proceedings including litigation by the Agency and/or the Department of Justice.

Title: “Financial Statement of Debtor”.

Description of Respondents: SBA Borrowers or guarantor's who request compromise.

Form Number: 770.

Annual Responses: 5,000.

Annual Burden: 2,500.

ADDRESSES: Send all comments regarding whether this information collection is necessary for the proper performance of the function of the agency, whether the burden estimates are accurate, and if there are ways to minimize the estimated burden and enhance the quality of the collection, to Louis Cupp, New Markets Policy Analyst, Office of Investment, Small Business Administration, 409 3rd Street, 6th Floor, Washington, DC 20416.

FOR FURTHER INFORMATION CONTACT: Louis Cupp, Office Investment, 202-619-0511, Louis.cupp@sba.gov, Curtis B. Rich, Management Analyst, 202-205-7030 curtis.rich@sba.gov.

SUPPLEMENTARY INFORMATION: SBA uses this information collection for proper oversight within the scope of the Small Business Act to assess NMVC Program applicants and participants.

Title: “New Market Venture Capital Program Application, Funding and Reporting”.

Description of Respondents: Programs Applications and participants, SSBIC receiving grants under the NMVC program.

Form Number's: 2216, 2185, 2219, 2210, 468.1, 480.

Annual Responses: 1,151.

Annual Burden: 14,012.

FOR FURTHER INFORMATION CONTACT: Johnny Kitts, Chief, Fund Administration, Office of Investment, 202-205-6551, Johnny.kitts@sba.gov, Curtis B. Rich, Management Analyst, 202-205-7030 curtis.rich@sba.gov.

SUPPLEMENTARY INFORMATION: Applicants for SBA-guaranteed commitment must complete these forms as part of the application process. SBA uses the information to make informed and proper credit decisions and to establish the SBIC's eligibility for leverage and need for funds.

Title: “25-Model Corp. Resol. Or GP Certif. 33-Model Letter to Selling Agent, 34-Bank ID, 1065-Appl.Lic Assure. Of Compliance”.

Description of Respondents: Application for SBA-guaranteed leverages.

Form Number: 23, 33, 34, 1065.

Annual Responses: 48.

Annual Burden: 43.

FOR FURTHER INFORMATION CONTACT: Gail Hepler, Chief, 7(a) Program Branch, Office of Financial Assistance, 202-205-7530, gail.hepler@sba.gov, Curtis B. Rich, Management Analyst, 202-205-7030 curtis.rich@sba.gov.

SUPPLEMENTARY INFORMATION: The information on this form is provided by Lenders to indicate how, to whom and for what purpose Lender disbursed the loan proceeds. SBA relies on this information during the guaranty purchase review process to determine whether to honor the guaranty, in full or in part, or to deny liability.

Title: “Settlement Sheet”.

Description of Respondents: Lenders requesting SBA to provide the Agency With breakdown of payments.

Form Number: 1050.

Annual Responses: 19,800.

Annual Burden: 4,950.

SUPPLEMENTARY INFORMATION: Lenders requesting SBA to purchase the guaranty portion of a loan are required to supply the Agency with a certified transcript of the loan account. This form is uniform and convenient means for lenders to report and certify loan accounts to purchase by SBA. The Agency uses the information to determine date of loan default and whether Lender disbursed and serviced the loan according to Loan Guaranty agreement.

Title: “Lender's Transcript of Account”.

Description of Respondents: SBSA Borrowers to complete loan authorization.

Form Number: 1149.

Annual Responses: 3,600.

Annual Burden: 3,600.

Jacqueline White,
Chief, Administrative Information Branch.

[FR Doc. 2011-15334 Filed 6-20-11; 8:45 am]

BILLING CODE P